DEPARTMENT OF HOUSING AND URBAN DEVELOPMENT

[Docket No. FR-4579-FA-24]

Announcement of Funding Award—FY 2000, Lead-Based Paint Hazard Control; Duke University of Durham, NC

AGENCY: Office of the Secretary—Office of Healthy Homes and Lead Hazard Control.

ACTION: Announcement of funding award.

SUMMARY: In accordance with section 102(a)(4)(C) of the Department of Housing and Urban Development Reform Act of 1989, this announcement notifies the public of a funding decision made by the Department to the Duke University of Durham, NC. This announcement contains the name and address of the awardee and the amount of the award.

FOR FURTHER INFORMATION CONTACT: Emily Williams, Department of Housing and Urban Development, 451 Seventh Street, SW., Washington, DC, 20410, telephone (336) 547-2434 x2067. Hearing- or speech-impaired individuals may access this number by calling the Federal Information Relay Service TTY at 1-800-877-8339.

SUPPLEMENTARY INFORMATION: The Health Homes Demonstration grant for the Duke University of Durham, NC was issued pursuant to Public Law 102-550, Title X, Residential Lead-Based Paint Hazard Reduction Act of 1992.

This notice announces the award of an additional $333,332.00 for a total award of $825,174.00 to the Duke University of Durham, NC, which will be used to extend the grant period and funding of the original grant to include measurements of contaminants in crawlspaces.

The Catalog of Federal Domestic Assistance number for this program is 14,900.

In accordance with section 102(a)(4)(C) of the Department of Housing and Urban Development Reform Act of 1989 (103 Stat. 1987, 42 U.S.C. 3545), the Department is publishing the name, address, and amount of the award as follows:

Duke University, Nicholas School of the Environment and Earth Sciences, 327 North Building, Box 90077, Durham County, Durham, NC 27708-0077.

Total Amount of Grant: $825,174.00.

Dated: December 3, 2003.
Joseph F. Smith,
Deputy Director, Office of Healthy Homes and Lead Hazard Control.

[FR Doc. 03-31912 Filed 12-29-03; 8:45 am]

BILLING CODE 4210-70-P